FEDERAL COMMUNICATIONS COMMISSION

Notice of Public Information Collection(s) Being Reviewed by the Federal Communications Commission, Comments Requested

September 20, 2000.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before November 24, 2000. If you anticipate that you will be submitting comments, but find it difficult to do so within the period of time allowed by this notice, you should advise the contact listed below as soon as possible.

ADDRESSES: Direct all comments to Les Smith, Federal Communications Commissions, 445 12th Street, S.W., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Number: 3060-XXXX.

Title: Section 79.2 Accessibility of Programming Providing Emergency Information.

Form Number: None.

Type of Review: Revision of currently approved collection.

Respondents: Business or other for-profit, Individuals or household, not-for-profit institutions, state, local or tribal government.

Number of Respondents: 100.

Estimated time per response: 1 hour per complainant, 2 hours per program provider.

Frequency of response: on occasion.

Total annual burden: 275 hours.

Total annual cost: $5,000.

Needs and Uses: On July 21, 2000, the Commission adopted a Report and Order in MM Docket No. 99-339 In the Matter of Implementation of Video Description of Video Programming. This Report and Order adopted video description rules to make television more accessible to persons with visual disabilities. Among other things, this Report and Order requires any broadcast station or multiple video programming distributor (MVPD) that provides local emergency information as part of a regularly scheduled newscast, or as part of a newscast that interrupts regularly scheduled programming, to make the critical details of the information accessible to persons with visual disabilities in the affected local area. In addition, any broadcast station or MVPD that provides emergency information through a crawl or scroll must accompany that information with an aural tone to alert persons with visual disabilities that the station or MVPD is providing this information.

Section 79.2(c) contains a complaint procedure. It requires that a complaint alleging a violation of this section may be transmitted to the Commission. The complaint should include the name of the video programming distributor against whom the complaint is alleged, the date and time of the omission of emergency information, and the type of emergency. The Commission will notify the video programming distributor of the complaint, and the distributor will reply to the complaint within 30 days.

OMB Approval Number: 3060-0192.

Title: Section 87.103 Posting station license.

Form No.: N/A.

Type of Review: Extension of existing collection.

Respondents: Businesses or other for-profit, individuals or households, state, local or tribal government, not-for-profit institutions.

Number of Respondents: 47,800.

Estimated Time Per Response: .25 hour per response.

Total Annual Burden: 11,950 hours.

Needs and Uses: The record keeping requirement contained in Section 87.103 is necessary to demonstrate that all transmitters in the Aviation Service are properly licensed in accordance with the requirements of Section 301 of the Communications Act of 1934, as amended, 47 U.S.C. 301, No. 2020 of the international Radio Regulations, and Article 30 of the Convention on International Civil Aviation. This requirement is necessary so that quick resolution of any harmful interference problems can be achieved and to ensure that the station is operating in accordance with the appropriate rules, statutes, and treaties.

OMB Control No.: 3060-0848.

Title: Deployment of Wireline Services Offering Advanced Telecommunications Capability, CC Docket No. 98-147.

Form No.: N/A.

Type of Review: Extension.

Respondents: Business or Other for Profit.

Number of Respondents: 1700.

Estimated Time Per Response: 95.76 hrs (avg.).

Total Annual Burden: 162,800.

Estimated Annual Reporting and Recordkeeping Cost Burden: $0.

Frequency of Response: On occasion; Third Party Disclosure.

Needs and Uses: The requirements contained in the Advanced Services First Report and Order and the Order on Reconsideration implement section 251(c)(6) of the Communications Act of 1934, as amended, which requires incumbent LECs to provide for collocation of equipment necessary for interconnection or access to unbundled network elements on terms and conditions that are just, reasonable and nondiscriminatory. The rules and requirements are intended to promote deployment of advanced services without significantly degrading the performance of other services. All the requirements will be used by the Commission and CLECs to facilitate the deployment of advanced data services.

Federal Communications Commission.
Magalie Roman Salas,
Secretary.

[FR Doc. 00-24539 Filed 9-22-00; 8:45 am]

BILLING CODE 6712-01-P